DEPARTMENT OF COMMERCE

Foreign-Trade Zones Board

[B-93-2013]

Foreign-Trade Zone 15—Kansas City, Missouri, Area; Application for Reorganization Under Alternative Site Framework

An application has been submitted to the Foreign-Trade Zones (FTZ) Board by the Greater Kansas City Foreign Trade Zone, Inc., grantee of FTZ 15, requesting authority to reorganize the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on November 5, 2013.

FTZ 15 was approved by the Board on March 23, 1973 (Board Order 93, 38 FR 8622, 4/4/73), and expanded on December 20, 1973 (Board Order 97, 39 FR 26, 1/2/74), on October 25, 1974 (Board Order 102, 39 FR 39487, 11/7/74), on February 28, 1996 (Board Order 804, 61 FR 9676, 3/11/96), on May 31, 1996 (Board Order 824, 61 FR 29529, 6/11/96), on December 8, 1997 (Board Order 934, 62 FR 65654, 12/15/97), on October 19, 1998 (Board Order 1004, 63 FR 59761, 11/5/98), on January 8, 1999 (Board Order 1016, 64 FR 3064, 1/20/99), on June 17, 1999 (Board Order 1042, 64 FR 34188, 6/25/99), on April 15, 2002 (Board Order 1226, 67 FR 20087, 4/24/02), on April 20, 2005 (Board Order 1388, 70 FR 22630, 5/2/05), on September 7, 2007 (Board Order 1524, 72 FR 53228, 9/18/07), and on October 23, 2009 (Board Order 1650, 74 FR 57658-57659, 11/9/09).

The current zone includes the following sites: Site 1 (8.46 acres total)—within Executive Park located at 1650 North Topping and 1226 Topping Drive in Kansas City; Site 2 (64.3 acres total)—surface/underground warehouse complex located at 8300 NE Underground Drive and at 3600 Great Midwest Drive in Kansas City; Site 3 (9,667 acres total)—within the 10,000-acre Kansas City International Airport facility; Site 4 (416 acres)—Carefree Industrial Park, 1600 North Missouri Highway 291, Sugar Creek; Site 5 (1,000 acres)—CARMAR Underground Business Park/CARMAR Industrial Park, No. 1 Civil War Road, Carthage; Site 7 (1,567 acres)—Richards-Gebaur Memorial Airport/Industrial Park, 1540 Maxwell, Kansas City; Site 8 (26 acres)—Chillicothe Industrial Park located at Ryan Road and Brunswick in Chillicothe; Site 9 (10 acres)—warehouse located at 3800 South 48th Terrace, St. Joseph; Site 10 (72.31 acres)—warehouse located at 8201 East 23rd Street, Kansas City; Site 11 (22 acres)—warehouse located at 13500 15th Street, Grandview; Site 13 (36.57 acres, expires 10/31/2014)—7501 NW 106th Terrace, Kansas City; Site 14 (68 acres)—within the 330-acre Air World Center Business Park, located at Interstate 29 and 112th Street, Kansas City; Site 15 (161 acres)—city-owned Harley Davidson site, 11401 North Congress Avenue, Kansas City; Site 16 (155 acres)—Congress Corporate Center Industrial Park, located at the northwest corner of 112th Street and North Congress, Kansas City; Site 17 (27 acres total)—within the Grandview Industrial Park at 13700 South US 71 Highway and at 5610 East 139th Street in Grandview; and, Site 18 (1 acre)—10201 North Everton in Kansas City.

The grantee's proposed service area under the ASF would be Andrew, Bates, Buchanan, Caldwell, Carroll, Cass, Chariton, Clay, Clinton, Cooper, Daviess, DeKalb, Henry, Howard, Jackson, Johnson, Lafayette, Livingston, Pettis, Platte, Ray and Saline Counties, Missouri, as described in the application. If approved, the grantee would be able to serve sites throughout the service area based on companies' needs for FTZ designation. The proposed service area is within and adjacent to the Kansas City Customs and Border Protection port of entry.

The applicant is requesting authority to reorganize its existing zone to include existing Sites 1, 2, 3, 4, 7, 8, 14, 16 and 17 as “magnet” sites and Sites 9, 10, 11, 13 and 15 as “usage-driven” sites. The ASF allows for the possible exemption of one magnet site from the “sunset” time limits that generally apply to sites under the ASF, and the applicant proposes that Site 3 be so exempted. The applicant is also requesting to remove existing Sites 5 and 18 from the zone. No subzones/usage-driven sites are being requested at this time. The application would have no impact on FTZ 15's previously authorized subzones.

In accordance with the FTZ Board's regulations, Camille Evans of the FTZ Staff is designated examiner to evaluate and analyze the facts and information presented in the application and case record and to report findings and recommendations to the FTZ Board.

Public comment is invited from interested parties. Submissions shall be addressed to the FTZ Board's Executive Secretary at the address below. The closing period for their receipt is January 13, 2014. Rebuttal comments in response to material submitted during the foregoing period may be submitted during the subsequent 15-day period to January 27, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: November 5, 2013.
Andrew McGilvray,
Executive Secretary.

[FR Doc. 2013-27001 Filed 11-8-13; 8:45 am]

BILLING CODE 3510-DS-P